DEPARTMENT OF THE INTERIOR

Bureau of Reclamation

[INT-DES-04-3]

Platte River Recovery Implementation Program

AGENCY: Bureau of Reclamation, Interior.

ACTION: Extension of review and comment period for draft environmental impact statement (DEIS).

SUMMARY: The notice of availability for the DEIS was published in the Federal Register on January 26, 2004 (69 FR 3600), with the public review and comment period originally scheduled to end April 2, 2004. It was the intent of the Bureau of Reclamation (Reclamation) that the comment period for the DEIS overlap with the release of the National Academy of Sciences (NAS) report, entitled, “Endangered and Threatened Species in the Platte River Basin” that was expected January 30, 2004. Because the NAS report has been significantly delayed, Reclamation is extending the review and comment period for the DEIS to June 1, 2004, to allow the public the opportunity to have both reports available during the DEIS review and comment period.

DATES: Submit comments on the DEIS on or before June 1, 2004. Public hearings on the DEIS will be held during the month of May. Times and locations will be announced in the Federal Register and local media.

ADDRESSES: Written comments on, or requests for copies of, the DEIS should be addressed to the Platte River EIS Office (PL-100), P.O. Box 25007, Denver, Colorado, 80225-0007, telephone (303) 445-2096, or by sending an e-mail to platte@prs.usbr.gov. A copy of the DEIS summary, and/or technical reports or appendices may also be obtained by calling (303) 445-2096. The DEIS summary is also accessible at http://www.platteriver.org.

FOR FURTHER INFORMATION, CONTACT: Lynn Holt, Platte River EIS Office (303) 445-2096, or by sending an e-mail to platte@prs.usbr.gov.

SUPPLEMENTARY INFORMATION: Reclamation and the Fish and Wildlife Service (Service) have prepared this DEIS to analyze the impacts of the First Increment (13 years) of a proposed Recovery Implementation Program (Program) to benefit the target species (whooping crane, interior least tern, piping plover, and pallid sturgeon) and their habitat in the Platte River Basin and to provide compliance with the Endangered Species Act (ESA) for certain historic and future water uses in the Platte River Basin in Colorado, Nebraska, and Wyoming. The habitat objectives of the proposed Program include: Improving flows in the Central Platte River through water re-regulation and conservation/supply projects; and protecting, restoring, and maintaining at least 10,000 acres of habitat in the Central Platte River area between Lexington and Chapman, Nebraska. The DEIS analyzes the impacts of four alternatives to implement the Program.

The programmatic DEIS focuses on impacts that the Program may have on hydrology, water quality, land, target species and their habitat, other species, hydropower, recreation, economics, and social and cultural resources. Subsequent National Environmental Policy Act and ESA documents required for implementation of specific Program actions will be tiered off of this document.

Public Disclosure Statement

Comments received in response to this notice will become part of the administrative record for this project and are subject to public inspection. Comments, including names and home addresses of respondents, will be available for public review. Individual respondents may request that Reclamation withhold their home address from public disclosure, which will be honored to the extent allowable by law. There also may be circumstances in which Reclamation would withhold a respondent's identity from public disclosure, as allowable by law. If you wish to have your name and/or address withheld, you must state this prominently at the beginning of your comment. Reclamation will make all submissions from organizations or businesses and from individuals identifying themselves as representatives or officials of organizations or businesses available for public disclosure in their entirety.

Dated: March 12, 2004.
Mary Josie Blanchard,
Acting Director, Office of Environmental Policy and Compliance.

[FR Doc. 04-7186 Filed 3-30-04; 8:45 am]

BILLING CODE 4310-MN-P